DEPARTMENT OF ENERGY

Federal Energy Regulatory Commission

[Docket No. ER06-1218-001]

PJM Interconnection, LLC; Notice Clarifying Comment Deadline

September 12, 2006.

The purpose of this notice is to clarify that, notwithstanding prior notices issued in the above-captioned proceeding, all comments addressing the August 28, 2006 filing submitted by PJM Interconnection, LLC in this proceeding are due on September 18, 2006.

Magalie R. Salas,
Secretary.

[FR Doc. E6-15400 Filed 9-15-06; 8:45 am]

BILLING CODE 6717-01-P